Title 3—

The President

Proclamation 8495 of April 9, 2010

Pan American Day and Pan American Week, 2010

By the President of the United States of America

A Proclamation

More than 200 years of history and significant current events have reinforced the strong bonds of friendship and common purpose among the nations and people of the Americas. The year 2010 marks the 80th anniversary of the first Pan American Day Proclamation; the centennial anniversary of the dedication of the Organization of American States’ headquarters, the Pan American Union Building; and the bicentennials of four of our fellow republics: Argentina, Colombia, Mexico, and Chile.

These milestones remind us of our shared histories of independence and interdependence, and of our long and arduous journeys toward the just, free, inclusive, and prosperous nations our founders envisioned. My Administration is committed to building strong partnerships in the Americas. We are focused on supporting social and economic opportunity, ensuring the safety of our citizens, strengthening democratic institutions and accountability, and building a secure and clean energy future. This is the message members of the Administration are carrying with them throughout the Americas, and the United States will focus on these principles as we partner with friends and neighbors across the Americas.

Our combined response to this year’s devastating earthquakes in Haiti and Chile demonstrates the enduring strength of Pan American solidarity. As we mourn these tragic losses of life, hope prevails in our hemisphere’s extraordinary assistance to the Haitian and Chilean peoples. The United States will continue to support these reconstruction efforts.

As we commemorate this year’s special anniversaries and take note of our combined rescue and relief efforts, let us reaffirm the vision President Franklin Delano Roosevelt expressed at the 1936 Inter-American Conference for the Maintenance of Peace: “We took from our ancestors a great dream. We here offer it back as a great unified reality.” Once again, we stand ready to usher in a new era of cooperation to advance the security, prosperity, and liberty of all our peoples.

NOW, THEREFORE, I, BARACK OBAMA, President of the United States of America, by virtue of the authority vested in me by the Constitution and the laws of the United States, do hereby proclaim April 14, 2010, as Pan American Day and April 11 through 17 as Pan American Week. I urge the Governors of the 50 States, the Governor of the Commonwealth of Puerto Rico, and the officials of other areas under the flag of the United States of America to honor these observances with appropriate ceremonies and activities.

IN WITNESS WHEREOF, I have hereunto set my hand this ninth day of April, in the year of our Lord two thousand ten, and of the Independence of the United States of America the two hundred and thirty-fourth.

[FR Doc. 2010-8672

Filed 4-13-10; 8:45 am]

Billing code 3195-W0-P